DEPARTMENT OF TRANSPORTATION

Federal Motor Carrier Safety Administration

[Docket No. FMCSA-2008-0049]

Agency Information Collection Activities; Revision of a Currently Approved Information Collection: Designation of Agents, Motor Carriers, Brokers and Freight Forwarders

AGENCY: Federal Motor Carrier Safety Administration (FMCSA), DOT.

ACTION: Notice and request for information.

SUMMARY: In accordance with the Paperwork Reduction Act of 1995, FMCSA announces its plan to submit the Information Collection Request (ICR) described below to the Office of Management and Budget (OMB) for review and approval. The FMCSA requests approval to revise an existing information collection (IC) entitled “Designation of Agents, Motor Carriers, Brokers and Freight Forwarders,” which is used to provide registered motor carriers, property brokers, and freight forwarders a means of meeting process agent requirements. On December 26, 2007, FMCSA published a Federal Register notice allowing for a 60-day comment period on the ICR. No comments were received on the ICR.

DATES: Please send your comments by April 21, 2008. OMB must receive your comments by this date in order to act quickly on the ICR.

ADDRESSES: All comments should reference DOT Docket No. FMCSA-2008-0049. You may submit comments to the Office of Information and Regulatory Affairs, Office of Management and Budget, 725 Seventeenth Street, NW., Washington, DC 20503, Attention: DOT/FMCSA Desk Officer.

FOR FURTHER INFORMATION CONTACT: Ms. Loretta G. Bitner, Commercial Enforcement (MC-ECC), Department of Transportation, Federal Motor Carrier Safety Administration, 1200 New Jersey Avenue, SE., Washington, DC 20590. Telephone: 202-385-2400. Office hours are from 8 a.m. to 4:30 p.m. EST, Monday through Friday, except Federal Holidays.

SUPPLEMENTARY INFORMATION: Title: Designation of Agents, Motor Carriers, Brokers and Freight Forwarders.

OMB Control Number: 2126-0015.

Type of Request: Revision of a currently-approved information collection.

Respondents: Motor carriers, freight forwarders and brokers.

Estimated Number of Respondents: 89,000.

Estimated Time per Response: 10 minutes.

Expiration Date: April 30, 2008.

Frequency of Response: The Form BOC-3 must be filed by all for-hire motor carriers and freight forwarders when the transportation entity first registers with the FMCSA. All brokers are required to file the Form BOC-3 as necessary and make a designation for each State in which it has an office or in which contracts will be written. Subsequent filings are made only if the motor carrier, broker or freight forwarder changes process agents.

Estimated Total Annual Burden: 14,833 hours [89,000 Form BOC-3 filings per year × 10 minutes/60 minutes to complete form = 14,833 hours].

Background: The Secretary of Transportation (Secretary) is authorized to register for-hire motor carriers of regulated commodities under the provisions of 49 U.S.C. 13902; freight forwarders under the provisions of 49 U.S.C. 13903; and property brokers under provisions of 49 U.S.C. 13904. These entities may conduct transportation services only if they are registered pursuant to 49 U.S.C. 13901. The Secretary has delegated authority pertaining to these registration requirements to the FMCSA.

Registered motor carriers (including private carriers) and freight forwarders must designate: (1) An agent on whom service of notices in proceedings before the Secretary may be made (49 U.S.C. 13303); and (2) for every State in which they are authorized to operate and every State traversed in the United States during such operations, agents on whom process issued by a court may be served in actions brought against the registered transportation entity (49 U.S.C. 13304). Every broker shall make a designation for each State in which its offices are located or in which contracts will be written. Regulations governing the designation of process agents are found at 49 CFR part 366, entitled “Designation of Process Agent.” This designation is filed with the FMCSA on Form BOC-3, “Designation of Agent for Service of Process.”

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued On: March 12, 2008.
Terry Shelton,
Associate Administrator for Research and Information Technology.

[FR Doc. E8-5640 Filed 3-19-08; 8:45 am]

BILLING CODE 4910-EX-P